DEPARTMENT OF THE TREASURY

Agency Information Collection Activities; Submission for OMB Review; Comment Request; Superfund; Imported Substances; Procedures for Filing a Petition

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 23, 2023 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Internal Revenue Service (IRS)

Title: Superfund; Imported Substances; Procedures for Filing a Petition.

OMB Number: 1545-2304.

Revenue Procedure Number: 2022-26.

Abstract: Section 4672(a)(2) of the Code allows importers and exporters to petition the Secretary of the Treasury to modify the list of chemical substances subject to the section 4671 excise taxes. The collection of information in this revenue procedure is necessary so that the Secretary of the Treasury has sufficient information to process these determination requests. Petitioners are importers or exporters of chemical substances and interested parties.

Current Actions: There are no changes being made to the revenue procedure at this time.

Type of Review: Extension of a currently approved collection.

Affected Public: Business or other for-profit organizations and Individuals or households.

Estimated Number of Responses: 1,000.

Estimated Average Time per Response: 45 min.

Estimated Total Annual Burden Hours: 75,000.

Authority: 44 U.S.C. 3501 et seq.

Melody Braswell,
Treasury PRA Clearance Officer.

[FR Doc. 2022-27898 Filed 12-22-22; 8:45 am]

BILLING CODE 4830-01-P